FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue, NW, Washington DC 20551-0001, not later than November 5, 2021.

A. Federal Reserve Bank of Dallas (Karen Smith, Director, Applications) 2200 North Pearl Street, Dallas, Texas 75201-2272:

1. The 2018 Ryan Legacy Trust, Round Rock, Texas, Nolan Reese Ryan, Austin, Texas, Wendy Ryan Bivins, Amarillo, Texas; both individually, and as co-trustees, and Robert Reid Ryan, as co-trustee, Houston, Texas; to join the Ryan Family Group, a group acting in concert, to acquire voting shares of R Corp Financial, and thereby indirectly acquire voting shares of R Bank, both of Round Rock, Texas.

B. Federal Reserve Bank of St. Louis (Holly A. Rieser, Manager) P.O. Box 442, St. Louis, Missouri 63166-2034. Comments can also be sent electronically to Comments.applications@stls.frb.org:

1. Kristanne Joy Becker Hoffman Family Trust 2021, Kristanne Joy Becker Hoffman, individually, and as trustee, and the Elizabeth French Hoffman Family Trust 2021, Elizabeth French Becker, individually, and as trustee, all of Jacksonville, Illinois; to acquire voting shares of Farmers Holding Company, and thereby indirectly acquire voting shares of The Farmers State Bank and Trust Company, both of Jacksonville, Illinois.

C. Federal Reserve Bank of Kansas City (Jeffrey Imgarten, Assistant Vice President) 1 Memorial Drive, Kansas City, Missouri 64198-0001:

1. The Dorothy J. Living Trust, Dorothy J. Pierce, as trustee, both of Oklahoma City, Oklahoma; to join the Pierce Family Group, a group acting in concert, to acquire voting shares of First Bethany Bancorp, Inc., and thereby indirectly acquire voting shares of First Bethany Bank & Trust, both of Bethany, Oklahoma.

Board of Governors of the Federal Reserve System, October 15, 2021.
Michele Taylor Fennell,
Deputy Associate Secretary of the Board.

[FR Doc. 2021-22915 Filed 10-20-21; 8:45 am]

BILLING CODE P